DEPARTMENT OF TRANSPORTATION

Federal Aviation Administration

14 CFR Part 71

[Docket No. FAA-2020-1100; Airspace Docket No. 20-AGL-1]

RIN 2120-AA66

Amendment of V-9, V-63, V-100, V-158, V-171, and T-325; and Revocation of V-127 in the Vicinity of Rockford, IL

AGENCY: Federal Aviation Administration (FAA), DOT.

ACTION: Final rule.

SUMMARY: This action amends VHF Omnidirectional Range (VOR) Federal airways V-9, V-63, V-100, V-158, and V-171; amends Area Navigation (RNAV) route T-325; and removes VOR Federal airway V-127 in the vicinity of Rockford, IL. The air traffic service (ATS) route modifications are necessary due to the planned decommissioning of the VOR portion of the Rockford, IL, VOR/Distance Measuring Equipment (VOR/DME) navigational aid (NAVAID). Except for RNAV route T-325, the Rockford VOR/DME NAVAID provides navigation guidance for portions of the affected routes listed above. The Rockford VOR is being decommissioned as part of the FAA's VOR Minimum Operational Network (MON) program.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2020-1100 in the Federal Register (85 FR 81433; December 16, 2020), amending VOR Federal airways V-9, V-63, V-100, V-158, and V-171; amending RNAV route T-325; and removing VOR Federal airway V-127 in the vicinity of Rockford, IL. The proposed amendment and revocation actions were due to the planned decommissioning of the VOR portion of the Rockford, IL, VOR/DME NAVAID. Interested parties were invited to participate in this rulemaking effort by submitting written comments on the proposal. No comments were received.

VOR Federal airways are published in paragraph 6010(a) and RNAV T-routes are published in paragraph 6011 of FAA Order 7400.11E, dated July 21, 2020, and effective September 15, 2020, which is incorporated by reference in 14 CFR 71.1. The VOR Federal airways listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Differences From the NPRM

In the NPRM, the FAA proposed to amend RNAV route T-325 by removing the Terre Haute VOR/Tactical Air Navigation (VORTAC) and replacing it with the JIBKA, IN, waypoint (WP) and then extending the route northward from the JIBKA, IN, WP to the Oshkosh, WI, VORTAC. The proposed RNAV route T-325 description in the regulatory text section of the NPRM inadvertently listed the RENRO, KY, route point as a FIX, in error. The correct reference for the RENRO, KY, route point should have reflected it as a WP. As such, the proposed T-325 route description in the NPRM should have reflected the RENRO, KY, route point as a “WP” instead of “FIX.” This RNAV route point correction to the T-325 description is included in this action.

The Rule

This action amends 14 CFR part 71 by modifying VOR Federal airways V-9, V-63, V-100, V-158, and V-171; modifying RNAV route T-325; and removing VOR Federal airway V-127. The planned decommissioning of the VOR portion of the Rockford, IL, VOR/DME has made this action necessary.

The VOR Federal airway changes are outlined below.

V-9: V-9 extends between the Leeville, LA, VORTAC and the Houghton, MI, VOR/DME. The airway segment overlying the Rockford, IL, VOR/DME between the Pontiac, IL, VOR/DME and the Janesville, WI, VOR/DME is removed. The unaffected portions of the existing airway remain as charted.

V-63: V-63 extends between the Razorback, AR, VORTAC and the Oshkosh, WI, VORTAC; and between the Wausau, WI, VOR/DME and the Houghton, MI, VOR/DME. That airspace at and above 10,000 feet MSL from 5 NM north to 46 NM north of Quincy, IL, when the Howard West MOA is active, is excluded. The airway segment overlying the Rockford, IL, VOR/DME between the Davenport, IA, VORTAC and the Janesville, WI, VOR/DME is removed. The unaffected portions of the existing airway remain as charted and the exclusion language remains unchanged.

V-100: V-100 extends between the Medicine Bow, WY, VOR/DME and the O'Neill, NE, VORTAC; and between the Fort Dodge, IA, VORTAC and the Litchfield, MI, VOR/DME. The airway segment overlying the Rockford, IL, VOR/DME between the Dubuque, IA, VORTAC and the Northbrook, IL, VOR/DME is removed. The unaffected portions of the existing airway remain as charted.

V-127: V-127 extends between the Bradford, IL, VORTAC and the Rockford, IL, VOR/DME. The airway is removed in its entirety.

V-158: V-158 extends between the Mason City, IA, VORTAC and the intersection of the Polo, IL, VOR/DME 122° and the Rockford, IL, VOR/DME 169° radials (SHOOF fix). The airspace within R-3302 is excluded. The airway is retained by redefining the SHOOF fix as the intersection of the Polo, IL, VOR/DME 122° and Davenport, IA, VORTAC, 087° radials. The existing airway remains as charted and the exclusion language remains unchanged.

V-171: V-171 extends between the Lexington, KY, VOR/DME and the Rockford, IL, VOR/DME; and between the Nodine, MN, VORTAC and the Roseau, MN, VOR/DME. The airway segment between the Joliet, IL, VOR/DME and the Rockford, IL, VOR/DME is removed. The unaffected portions of the existing airway remain as charted.

The RNAV T-route changes are outlined below.

T-325: T-325 extends between the Bowling Green, KY, DME NAVAID and the Terre Haute, IN, VORTAC. The Terre Haute VORTAC route point is removed and replaced with the JIBKA, IN, WP located near the Terre Haute VORTAC, and the route is extended northward from the JIBKA, IN, WP to the Oshkosh, WI, VORTAC. The following points are added between the JIBKA WP and the Oshkosh VORTAC: CAPPY, IL, WP; SMARS, IL, WP; TRENM, IL, WP; START, IL, WP; GRIFT, IL, WP; DEBOW, WI, WP; LUNGS, WI, WP; and the HOMNY, WI, WP. The unaffected segments of the existing route remain as charted.

All radials in the VOR Federal airway descriptions below are stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-9, V-63, V-100, V-158, and V-171; modifying RNAV route T-325; and removing VOR Federal airway V-127, due to the planned decommissioning of the VOR portion of the Rockford, IL, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has therefore determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-9 [Amended]

From Leeville, LA; McComb, MS; INT McComb 004° and Magnolia, MS, 194° radials; Magnolia; Sidon, MS; Marvell, AR; Gilmore, AR; Malden, MO; Farmington, MO; St. Louis, MO; Spinner, IL; to Pontiac, IL. From Janesville, WI; Madison, WI; Oshkosh, WI; Green Bay, WI; Iron Mountain, MI; to Houghton, MI.

* * * * *

V-63 [Amended]

From Razorback, AR; Springfield, MO; Hallsville, MO; Quincy, IL; Burlington, IA; Moline, IL; to Davenport, IA. From Janesville, WI; Badger, WI; to Oshkosh, WI. From Wausau, WI; Rhinelander, WI; to Houghton, MI. Excluding that airspace at and above10,000 feet MSL from 5 NM north to 46 NM north of Quincy, IL, when the Howard West MOA is active.

* * * * *

V-100 [Amended]

From Medicine Bow, WY; Scottsbluff, NE; Alliance, NE; Ainsworth, NE; to O'Neill, NE. From Fort Dodge, IA; Waterloo, IA; to Dubuque, IA. From Northbrook, IL; INT Northbrook 095° and Keeler, MI, 271° radials; Keeler; to Litchfield, MI.

* * * * *

V-127 [Removed]

* * * * *

V-158 [Amended]

From Mason City, IA; INT Mason City 106° and Dubuque, IA, 293° radials; Dubuque; Polo, IL; to INT Polo 122° and Davenport, IA, 087° radials. The airspace within R-3302 is excluded.

* * * * *

V-171 [Amended]

From Lexington, KY; INT Lexington 251° and Louisville, KY, 114° radials; Louisville; Terre Haute, IN; Danville, IL; Peotone, IL; INT Peotone 281° and Joliet, IL, 173° radials; to Joliet. From Nodine, MN; INT Nodine 298° and Farmington, MN, 124° radials; Farmington; Darwin, MN; Alexandria, MN; INT Alexandria 321° and Grand Forks, ND, 152° radials; Grand Forks; to Roseau, MN.

* * * * *

Paragraph 6011 United States Area Navigation Routes.

* * * * *

T-325 Bowling Green, KY (BWG) to Oshkosh, WI (OSH) [Amended]
Bowling Green, KY (BWG) | DME | (Lat. 36°55′43.47″ N, long. 086°26′36.36″ W)
RENRO, KY | WP | (Lat. 37°28′50.53″ N, long. 086°39′19.25″ W)
LOONE, KY | WP | (Lat. 37°44′14.43″ N, long. 086°45′18.02″ W)
APALO, IN | FIX | (Lat. 38°00′20.59″ N, long. 086°51′35.27″ W)
BUNKA, IN | FIX | (Lat. 39°04′57.32″ N, long. 087°09′06.58″ W)
JIBKA, IN | WP | (Lat. 39°30′08.93″ N, long. 087°16′26.74″ W)
CAPPY, IL | WP | (Lat. 40°00′06.00″ N, long. 087°44′31.22″ W)
SMARS, IL | WP | (Lat. 41°07′38.18″ N, long. 088°51′38.22″ W)
TRENM, IL | WP | (Lat. 41°17′24.93″ N, long. 089°00′27.53″ W)
START, IL | WP | (Lat. 41°45′24.83″ N, long. 089°00′21.81″ W)
GRIFT, IL | WP | (Lat. 42°17′28.14″ N, long. 088°53′41.42″ W)
DEBOW, WI | WP | (Lat. 42°44′08.30″ N, long. 088°50′48.92″ W)
LUNGS, WI | WP | (Lat. 43°02′43.66″ N, long. 088°56′54.86″ W)
HOMNY, WI | WP | (Lat. 43°31′02.22″ N, long. 088°39′40.15″ W)
Oshkosh, WI (OSH) | VORTAC | (Lat. 43°59′25.56″ N, long. 088°33′21.36″ W)

* * * * *

Issued in Washington, DC, on July 22, 2021.
George Gonzalez,
Acting Manager, Rules and Regulations Group.

[FR Doc. 2021-15768 Filed 7-23-21; 8:45 am]

BILLING CODE 4910-13-P